COMMITTEE FOR PURCHASE FROM PEOPLE WHO ARE BLIND OR SEVERELY DISABLED

Procurement List Proposed Additions

AGENCY: Committee for Purchase From People Who Are Blind or Severely Disabled

ACTION: Proposed additions to Procurement List.

SUMMARY: The Committee is proposing to add to the Procurement List commodities and services to be furnished by nonprofit agencies employing persons who are blind or have other severe disabilities.

COMMENTS MUST BE RECEIVED ON OR BEFORE: December 26, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the commodity and services listed below from nonprofit agencies employing persons who are blind or have other severe disabilities. I certify that the following action will not have a significant impact on a substantial number of small entities. The major factors considered for this certification were:

1. The action will not result in any additional reporting, recordkeeping or other compliance requirements for small entities other than the small organizations that will furnish the commodity and services to the Government.

2. The action will result in authorizing small entities to furnish the commodity and services to the Government.

3. There are no known regulatory alternatives which would accomplish the objectives of the Javits-Wagner-O'Day Act (41 U.S.C. 46-48c) in connection with the commodity and services proposed for addition to the Procurement List. Comments on this certification are invited. Commenters should identify the statement(s) underlying the certification on which they are providing additional information.

The following commodities and services have been proposed for addition to Procurement List for production by the nonprofit agencies listed:

Commodities

Sorbents, Chemical and Oil

4235-01-441-0246

4235-01-441-0248

4235-01-451-8744

4235-01-453-5159

4235-01-456-8571

4235-01-456-8575

4235-01-456-8858

4235-01-456-8862

4235-01-456-9893

4235-01-456-9899

4235-01-457-0005

4235-01-457-0031

4235-01-457-0421

4235-01-457-0431

4235-01-457-0518

4235-01-457-0658

4235-01-457-0663

4235-01-457-0676

4235-01-457-0677

NPA: San Antonio Lighthouse, San Antonio, Texas

Services

Janitorial/Custodial

Mooers Border Station, Mooers, New York

NPA: Clinton County Chapter, NYSARC, INC, Plattsburgh, New York

Janitorial/Custodial

Redden U.S. Federal Courthouse, Fleet Management Center, 310 West 6th Street, Medford, Oregon

NPA: Pathway Enterprises, Inc, Ashland, Oregon

Janitorial/Custodial

United States Coast Guard Air Station Borinquen, Aguadilla, Puerto Rico

NPA: The Corporate Source, Inc., New York, New York

Louis R. Bartalot,
Deputy Director (Operations).

[FR Doc. 00-30001 Filed 11-22-00; 8:45 am]

BILLING CODE 6353-01-P